DEPARTMENT OF ENERGY

Federal Energy Regulatory Commission

[Project No. 2155-053]

Pacific Gas and Electric Company, Sacramento Municipal Utility District; Notice of Application for Transfer of License and Soliciting Comments, Motions To Intervene, and Protests

On March 25, 2020, Pacific Gas and Electric Company (transferor) and Sacramento Municipal District (transferee) filed a joint application for the transfer of license of the Chili Bar Hydroelectric Project No. 2155. The project is located on the South Fork American River in El Dorado County, California.

The applicants seek Commission approval to transfer the license for the Chili Bar Hydroelectric Project from the transferor to the transferee.

Applicants Contact: For Transferor: Annette Faraglia, Chief Counsel, Hydro Generation, Pacific Gas and Electric Company, 77 Beale Street, B30A-3005, San Francisco, CA 94105, phone: (415) 973-7145, fax: (415) 973-5520, Email: annette.faraglia@pge.com and Jan Nimick, Vice President—Power Generation, Pacific Gas and Electric Company, 245 Market Street, Room 1163, San Francisco, CA 94105, phone: (415) 973-0629, Email: jan.nimick@pge.com.

For Transferee: Joe Schofield, Deputy General Counsel, Sacramento Municipal Utility District, 6201 S Street, Sacramento, CA 95817, phone: (916) 732-5446, fax: (916) 732-6581, Email: joe.schofield@smud.org and Ross Gould, Director Power Generation, Sacramento Municipal District, 4401 Bradshaw Rd., Mail Stop EA 405, Sacramento, CA 95827, phone: (916) 732-6584, Email: ross.gould@smud.org.

FERC Contact: Anumzziatta Purchiaroni, (202) 502-6191, anumzziatta.purchiaroni@ferc.gov.

Deadline for filing comments, motions to intervene, and protests: 30 days from the date that the Commission issues this notice. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852. The first page of any filing should include docket number P-2155-053.

Dated: May 7, 2020.
Kimberly D. Bose,
Secretary.

[FR Doc. 2020-10255 Filed 5-12-20; 8:45 am]

BILLING CODE 6717-01-P